NUCLEAR REGULATORY COMMISSION

[NRC-2018-0155]

Instructions for Completing NRC's Uniform Low-Level Radioactive Waste Manifest

AGENCY: Nuclear Regulatory Commission.

ACTION: Draft NUREG; extension of comment period.

SUMMARY: On October 30, 2018, the U.S. Nuclear Regulatory Commission (NRC) solicited comments on its draft guidance document, NUREG/BR-0204, Rev. 3, “Instructions for Completing NRC's Uniform Low-Level Radioactive Waste Manifest,” in the Federal Register. The public comment period was originally scheduled to close on December 31, 2018. The NRC has decided to extend the public comment period until January 31, 2019, to allow more time for stakeholders to develop and submit their comments.

DATES: The due date for comments requested in the document published on October 30, 2018 (83 FR 54620), is extended. Comments should be filed no later than January 31, 2019. Comments received after this date will be considered, if it is practical to do so, but the Commission is able to ensure consideration only for comments received on or before this date.

ADDRESSES: You may submit comments by any of the following methods:

• Federal Rulemaking Website: Go to http://www.regulations.gov and search for Docket ID NRC-2018-0155. Address questions about Docket IDs in Regulations.gov to Krupskaya Castellon; telephone: 301-287-9221; email: Krupskaya.Castellon@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Lloyd Desotell, Office of Nuclear Material Safety and Safeguards, U.S. Nuclear Regulatory Commission, Washington, DC 20555-0001; telephone: 301-415-5969, email: Lloyd.Desotell@nrc.gov.

SUPPLEMENTARY INFORMATION:

I. Obtaining Information and Submitting Comments

A. Obtaining Information

Please refer to Docket ID NRC-2018-0155 when contacting the NRC about the availability of information for this action. You may obtain publicly-available information related to this action by any of the following methods:

• Federal Rulemaking Website: Go to http://www.regulations.gov and search for Docket ID NRC-2018-0155.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The draft NUREG is available in ADAMS under Accession No. ML18261A002.

• NRC's PDR: You may examine and purchase copies of public documents at the NRC's PDR, Room O1-F21, One White Flint North, 11555 Rockville Pike, Rockville, Maryland 20852.

B. Submitting Comments

Please include Docket ID NRC-2018-0155 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On October 30, 2018, the NRC solicited comments on its draft guidance document, NUREG/BR-0204, Rev. 3, “Instructions for Completing NRC's Uniform Low-Level Radioactive Waste Manifest.” This document provides instructions to prepare NRC Form 540 (Uniform Low-Level Radioactive Waste Manifest (Shipping Paper)), NRC Form 541 (Uniform Low-Level Radioactive Waste Manifest (Container and Waste Description)), and NRC Form 542 (Uniform Low-Level Radioactive Waste Manifest (Manifest Index and Regional Compact Tabulation)). Pursuant to the requirements of part 20 of title 10 of the Code of Federal Regulations (10 CFR part 20), “Standards for Protection Against Radiation,” Appendix G, “Requirements for Transfers of Low-Level Radioactive Waste Intended for Disposal At Licensed Land Disposal Facilities and Manifests,” NRC Forms 540 and 541 must be prepared for low-level radioactive waste intended for ultimate disposal at a licensed low-level radioactive waste land disposal facility. NRC Form 542 is required only if processors and collectors of low-level radioactive waste are shipping low-level radioactive waste attributed to others for disposal at a licensed low-level radioactive waste land disposal facility. The public comment period was originally scheduled to close on December 31, 2018. The NRC has decided to extend the public comment period on this document until January 31, 2019, to allow more time for stakeholders to submit their comments.

Dated at Rockville, Maryland, this 18th day of December 2018.
For the Nuclear Regulatory Commission.
John R. Tappert,
Director, Division of Decommissioning, Uranium Recovery and Waste Programs, Office of Nuclear Material Safety and Safeguards.

[FR Doc. 2018-27630 Filed 12-20-18; 8:45 am]

BILLING CODE 7590-01-P